FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's website (www.fmc.gov) or by contacting the Office of Agreements at (202)-523-5793 or tradeanalysis@fmc.gov.

Agreement No.: 011117-048.

Title: United States/Australasia Discussion Agreement.

Parties: A.P. Moller-Maersk A/S; ANL Singapore Pte Ltd.; CMA-CGM; Compagnie Maritime Marfret S.A.; Hamburg-Süd; and Hapag-Lloyd AG.

Filing Party: Wayne R. Rohde, Esq.; Sher & Blackwell LLP; 1850 M Street, NW.; Suite 900; Washington, DC 20036.

Synopsis: The amendment clarifies certain agreement authority in the context of Australian law, revises the minimum level of service, and deletes obsolete material from Appendix A.

Agreement No.: 011275-029.

Title: Australia and New Zealand/United States Discussion Agreement.

Parties: ANL Singapore PTE LTD.; Hamburg-Südamerikanische Dampfschifffahrts-Gesellschaft KG; and Hapag-Lloyd AG.

Filing Party: Wayne R. Rohde, Esq.; Sher & Blackwell LLP; 1850 M Street, NW.; Suite 900; Washington, DC 20036.

Synopsis: The amendment would add CMA CGM S.A. as a party to the agreement.

Agreement No.: 011938-005.

Title: HSDG/Alianca/CSAV/Libra/CLNU Cooperative Working Agreement.

Parties: Hamburg-Sud (“HSDG”); Alianca Navegacao e Logistica Ltda. e CIA (“Alianca”); Compania Sud Americana de Vapores, S.A.; Companhia Libra de Navegacao; and Montemar Maritima S.A.

Filing Party: Wayne R. Rohde, Esq.; Sher & Blackwell LLP; 1850 M Street, NW.; Suite 900; Washington, DC 20036.

Synopsis: The amendment reduces the number of vessel strings operated, deletes obsolete language, revises the duration of the agreement, and makes corresponding changes to the agreement. The parties request expedited review.

Agreement No.: 012073.

Title: MSC/CSAV Group Vessel Sharing Agreement.

Parties: MSC Mediterranean Shipping Company SA; Compaňia Sud Americana de Vapores S.A.; Companhia Libra de Navegacao; and Compania Libra de Navegacion Uruguay S.A..

Filing Party: Wayne R. Rohde, Esq.; Sher & Blackwell LLP; 1850 M Street, NW., Suite 900; Washington, DC 20036.

Synopsis: The agreement authorizes the parties to share vessel space in the trade between the U.S. Atlantic Coast and Argentina, Brazil, Uruguay, and Venezuela. The parties request expedited review.

Agreement No.: 012074.

Title: HLAG/UASC Slot Exchange Agreement.

Parties: Hapag-Lloyd AG and United Arab Shipping Company.

Filing Party: Wayne Rohde, Esq.; Sher & Blackwell, LLP; 1850 M Street, NW.; Suite 900; Washington, DC 20036.

Synopsis: The agreement authorizes UASC to provide HLAG with slots on UASC's service between the U.S. East Coast and Italy and Spain. In exchange, HLAG agrees to provide slots to UASC on its service in the Indian Subcontinent/Europe trade.

Agreement No.: 201203-001.

Title: Port of Oakland/Oakland Marine Terminal Operator Agreement.

Parties: Eagle Marine Services, Ltd.; Port of Oakland; Seaside Transportation Service LLC; SSA Terminals (Oakland), LLC; Total Terminals International, LLC; Transbay Container Terminal, Inc.; and Trapac, Inc.

Filing Party: David F. Smith, Esq.; Sher & Blackwell LLP; 1850 M Street, NW.; Suite 900; Washington, DC 20036, and Paul Heylman, Esq.; Saul Ewing LLP; 2600 Virginia Avenue NW.; Suite 1000; Washington, DC 20037.

Synopsis: The agreement would add Ports of America Outer Harbor Terminal, LLC as a party to the agreement.

Dated: July 31, 2009.
By Order of the Federal Maritime Commission.
Karen V. Gregory,
Secretary.

[FR Doc. E9-18752 Filed 8-4-09; 8:45 am]

BILLING CODE P